DEPARTMENT OF ENERGY

Federal Energy Regulatory Commission

[Docket No. CP23-40-000]

Viking Gas Transmission Company; Notice of Request Under Blanket Authorization and Establishing Intervention and Protest Deadline

Take notice that on January 23, 2023, Viking Gas Transmission Company (Viking) 100 West 5th Street, Tulsa, Oklahoma 74103, filed in the above referenced docket, a prior notice request pursuant to sections 157.205, 157.208 and 157.211 ¹ of the Federal Energy Regulatory Commission's regulations under the Natural Gas Act (NGA) and Viking's blanket certificate issued in Docket No. CP82-414-000,² requesting authorization to construct, own, operate, and maintain a new pipeline lateral to Grand Forks, North Dakota. Viking estimates the cost of the lateral to be $26,940,000, as more fully described in the application which is on file with the Commission and open to public inspection.

¹ 18 CFR157.205, 157.208, 157.211.

² On September 1, 1982, in Docket No. CP82-414-000, Midwestern Gas Transmission Company (Midwestern) was issued a blanket certificate for its entire pipeline system, which was composed of its Southern System, extending from Portland, Tennessee to Joliet, Illinois, and its Northern System, extending from the United States-Canada international boundary near Emerson, Minnesota to Marshfield, Wisconsin. Midwestern Gas Transmission Co., 20 FERC ¶ 62,411 (1982). Subsequently, on April 6, 1989, in Docket No. CP88-679-000, the Commission authorized Midwestern's abandonment by transfer to Viking and Viking's acquisition of Midwestern's Northern System. Midwestern Gas Transmission Co., 47 FERC ¶ 61,017 (1989).

Specifically, Viking is proposing to build its Line MNB2204C (the Project), in Polk County, Minnesota and Grand Forks County, North Dakota. Viking proposes to: (i) construct 13.2 miles of 12-inch-diameter lateral pipeline that runs from Viking's mainline to the East Grand Forks, Minnesota Meter Station (MN Meter Station); (ii) construct 0.8 mile of 12-inch-diameter pipeline from the new Grand Forks, North Dakota Launcher Site (ND Launcher Site) to a new meter station in Grand Forks, North Dakota; and (iii) relocate and upsize a meter from the MN Meter Station to the ND Launcher Site. Minor auxiliary facilities installations and modifications will also be made pursuant to section 2.55(a) of the Commission's regulations.³ The Project will provide up to 42,000 dekatherms per day (Dth/d) of firm transportation service on Viking's system to a new delivery point.

³ 18 CFR 2.55(a).

In addition to publishing the full text of this document in the Federal Register, the Commission provides all interested persons an opportunity to view and/or print the contents of this document via the internet through the Commission's Home Page (http://ferc.gov.) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov.or call toll-free, (886) 208-3676 or TYY, (202) 502-8659.

Any questions concerning this application should be directed to Denise Adams, Director, Regulatory Affairs ONEOK, Inc., 100 West 5th Street, Tulsa, Oklahoma 74103, by telephone at (918) 732-1408, or by email at regulatoryaffairs@oneok.com.

Public Participation

There are three ways to become involved in the Commission's review of this project: you can file a protest to the project, you can file a motion to intervene in the proceeding, and you can file comments on the project. There is no fee or cost for filing protests, motions to intervene, or comments. The deadline for filing protests, motions to intervene, and comments is 5:00 p.m. Eastern Time on April 3, 2023. How to file protests, motions to intervene, and comments is explained below.

Protests

Pursuant to section 157.205 of the Commission's regulations under the NGA,⁴ any person ⁵ or the Commission's staff may file a protest to the request. If no protest is filed within the time allowed or if a protest is filed and then withdrawn within 30 days after the allowed time for filing a protest, the proposed activity shall be deemed to be authorized effective the day after the time allowed for protest. If a protest is filed and not withdrawn within 30 days after the time allowed for filing a protest, the instant request for authorization will be considered by the Commission.

⁴ 18 CFR 157.205.

⁵ Persons include individuals, organizations, businesses, municipalities, and other entities. 18 CFR 385.102(d).

Protests must comply with the requirements specified in section 157.205(e) of the Commission's regulations,⁶ and must be submitted by the protest deadline, which is April 3, 2023. A protest may also serve as a motion to intervene so long as the protestor states it also seeks to be an intervenor.

⁶ 18 CFR 157.205(e).

Interventions

Any person has the option to file a motion to intervene in this proceeding. Only intervenors have the right to request rehearing of Commission orders issued in this proceeding and to subsequently challenge the Commission's orders in the U.S. Circuit Courts of Appeal.

To intervene, you must submit a motion to intervene to the Commission in accordance with Rule 214 of the Commission's Rules of Practice and Procedure ⁷ and the regulations under the NGA ⁸ by the intervention deadline for the project, which is April 3, 2023. As described further in Rule 214, your motion to intervene must state, to the extent known, your position regarding the proceeding, as well as your interest in the proceeding. For an individual, this could include your status as a landowner, ratepayer, resident of an impacted community, or recreationist. You do not need to have property directly impacted by the project in order to intervene. For more information about motions to intervene, refer to the FERC website at https://www.ferc.gov/resources/guides/how-to/intervene.asp.

⁷ 18 CFR 385.214.

⁸ 18 CFR 157.10.

All timely, unopposed motions to intervene are automatically granted by operation of Rule 214(c)(1). Motions to intervene that are filed after the intervention deadline are untimely and may be denied. Any late-filed motion to intervene must show good cause for being late and must explain why the time limitation should be waived and provide justification by reference to factors set forth in Rule 214(d) of the Commission's Rules and Regulations. A person obtaining party status will be placed on the service list maintained by the Secretary of the Commission and will receive copies (paper or electronic) of all documents filed by the applicant and by all other parties.

Comments

Any person wishing to comment on the project may do so. The Commission considers all comments received about the project in determining the appropriate action to be taken. To ensure that your comments are timely and properly recorded, please submit your comments on or before April 3, 2023. The filing of a comment alone will not serve to make the filer a party to the proceeding. To become a party, you must intervene in the proceeding.

How To File Protests, Interventions, and Comments

There are two ways to submit protests, motions to intervene, and comments. In both instances, please reference the Project docket number CP23-40-000 in your submission.

(1) You may file your protest, motion to intervene, and comments by using the Commission's eFiling feature, which is located on the Commission's website (www.ferc.gov) under the link to Documents and Filings. New eFiling users must first create an account by clicking on “eRegister.” You will be asked to select the type of filing you are making; first select General” and then select “Protest”, “Intervention”, or “Comment on a Filing”; or ⁹

⁹ Additionally, you may file your comments electronically by using the eComment feature, which is located on the Commission's website at www.ferc.gov under the link to Documents and Filings. Using eComment is an easy method for interested persons to submit brief, text-only comments on a project.

(2) You can file a paper copy of your submission by mailing it to the address below. Your submission must reference the Project docket number CP23-40-000.

To mail via USPS, use the following address: Kimberly D. Bose, Secretary, Federal Energy Regulatory Commission, 888 First Street NE, Washington, DC 20426

To mail via any other courier, use the following address: Kimberly D. Bose, Secretary, Federal Energy Regulatory Commission, 12225 Wilkins Avenue, Rockville, Maryland 20852

The Commission encourages electronic filing of submissions (option 1 above) and has eFiling staff available to assist you at (202) 502-8258 or FercOnlineSupport@ferc.gov.

Protests and motions to intervene must be served on the applicant either by mail or email (with a link to the document) at: Denise Adams, Director, Regulatory Affairs, 100 West 5th Street, Tulsa, Oklahoma 74103, or by email at regulatoryaffairs@oneok.com. Any subsequent submissions by an intervenor must be served on the applicant and all other parties to the proceeding. Contact information for parties can be downloaded from the service list at the eService link on FERC Online.

Tracking the Proceeding

Throughout the proceeding, additional information about the project will be available from the Commission's Office of External Affairs, at (866) 208-FERC, or on the FERC website at www.ferc.gov using the “eLibrary” link as described above. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. For more information and to register, go to www.ferc.gov/docs-filing/esubscription.asp.

Dated: February 2, 2023.
Kimberly D. Bose,
Secretary.

[FR Doc. 2023-02637 Filed 2-7-23; 8:45 am]

BILLING CODE 6717-01-P